DEPARTMENT OF AGRICULTURE

Agricultural Marketing Service

[Document No. AMS-FV-15-0017]

Re-Charter of the Fruit and Vegetable Industry Advisory Committee

AGENCY: Agricultural Marketing Service, USDA.

ACTION: Notice of Re-charter of the U.S. Department of Agriculture (USDA) Fruit and Vegetable Industry Advisory Committee.

SUMMARY: The USDA intends to renew the Fruit and Vegetable Industry Advisory Committee (Committee) for a two-year term from 2015-2017. The purpose of the Committee is to examine the full spectrum of issues faced by the fruit and vegetable industry and provide suggestions and ideas to the Secretary of Agriculture on how USDA can tailor its programs to better meet the fruit and vegetable industry's needs. The Committee is necessary and is in the public interest.

FOR FURTHER INFORMATION CONTACT: Charles W. Parrott, Committee Executive Secretary; Phone: (202) 720-4722; Email: Charles.parrott@ams.usda.gov; and/or Pamela Stanziani, Designated Federal Official; Phone: (202) 720-3334; Email: Pamela.stanziani@ams.usda.gov.

SUPPLEMENTARY INFORMATION: Pursuant to the Federal Advisory Committee Act (FACA) (5 U.S.C. App.), notice is hereby given that the Secretary of Agriculture intends to renew the Fruit and Vegetable Industry Advisory Committee for two years. The purpose of the Committee is to examine the full spectrum of issues faced by the fruit and vegetable industry and provide suggestions and ideas to the Secretary on how USDA can tailor its programs to better meet the fruit and vegetable industry's needs.

The Deputy Administrator of the Agricultural Marketing Service's Fruit and Vegetable Program will serve as the Committee's Executive Secretary. Representatives from USDA mission areas and agencies affecting the fruit and vegetable industry will be called upon to participate in the Committee's meetings as determined by the Committee Chairperson.

Industry members are appointed by the Secretary of Agriculture and serve 2 year terms. Membership consists of up to twenty-five (25) members who represent the fruit and vegetable industry and will include individuals representing fruit and vegetable growers/shippers, wholesalers, brokers, retailers, processors, fresh cut processors, foodservice suppliers, state agencies involved in organic and non-organic fresh fruits and vegetables at local, regional and national levels, farmers markets and food hubs, state departments of agriculture, and trade associations. The members of the re-chartered Committee elect a Chairperson and Vice Chairperson of the Committee. In absence of the Chairperson, the Vice-Chairperson acts in the Chairperson's stead.

During the member outreach and nomination period, the Secretary of Agriculture seeks a diverse group of members representing a broad spectrum of persons interested in providing suggestions and ideas on how USDA can tailor its programs to meet the fruit and vegetable industry's needs.

Equal opportunity practices are followed in all appointments to the Committee in accordance with USDA policies. To ensure that the recommendations of the Committee have taken into account the needs of the diverse groups served by USDA, membership includes, to the extent practicable, individuals with demonstrated ability to represent minorities, women, persons with disabilities, and limited resource agriculture producers.

Dated: July 22, 2015.
Rex A. Barnes,
Associate Administrator, Agricultural Marketing Service.

[FR Doc. 2015-18317 Filed 7-24-15; 8:45 am]

BILLING CODE P